DEPARTMENT OF STATE

[Public Notice 11765]

Proposal To Extend Cultural Property Agreement Between the United States and Libya

ACTION: Public notice.

SUMMARY: Proposal to extend the Memorandum of Understanding Between the Government of the United States of America and the Government of Libya Concerning the Imposition of Import Restrictions on Categories of Archaeological and Ethnological Material of Libya.

FOR FURTHER INFORMATION CONTACT: Susan Cooke, Cultural Heritage Center, Bureau of Educational and Cultural Affairs: (202) 538-3091; culprop@state.gov; include “Libya” in the subject line.

SUPPLEMENTARY INFORMATION: The Assistant Secretary of State for Educational and Cultural Affairs proposes an extension of the Memorandum of Understanding Between the Government of the United States of America and the Government of Libya Concerning the Imposition of Import Restrictions on Categories of Archaeological and Ethnological Material of Libya. The Cultural Heritage Center website provides instructions for public comment and additional information on the request, including categories of archaeological and ethnological material that may be included in import restrictions: https://eca.state.gov/cultural-property-advisory-committee-meeting-july-26-27-2022. This notice is published pursuant to authority vested in the Assistant Secretary of State for Educational and Cultural Affairs and pursuant to 19 U.S.C. 2602(f)(1).

Allison Davis,
Executive Director, Cultural Property Advisory Committee, Bureau of Educational and Cultural Affairs, Department of State.

[FR Doc. 2022-13190 Filed 6-17-22; 8:45 am]

BILLING CODE 4710-05-P